DEPARTMENT OF COMMERCE

International Trade Administration

[A-489-501]

Welded Carbon Steel Standard Pipe and Tube Products From Turkey: Preliminary Results of Antidumping Duty Administrative Review; 2013-2014

AGENCY: Enforcement and Compliance, International Trade Administration, U.S. Department of Commerce.

SUMMARY: In response to a request by interested parties,¹ the Department of Commerce (the Department) is conducting an administrative review of the antidumping duty order on welded carbon steel standard pipe and tube products (welded pipe and tube) from Turkey.² The period of review (POR) is May 1, 2013, to April 30, 2014. This review covers the following companies: Borusan Istikbal Ticaret T.A.S., and Borusan Mannesmann Boru Sanayi ve Ticaret A.S. (collectively “Borusan”); ERBOSAN Erciyas Boru Sanayi ve Ticaret A.S. (Erbosan); Toscelik Profil ve Sac Endustrisi A.S. (Toscelik) and Tosyali Dis Ticaret A.S. (Tosyali) (collectively “Toscelik”).³ The Department preliminarily determines that Borusan and Toscelik both made U.S. sales of subject merchandise below normal value. In addition, the Department preliminarily finds that Erbosan had no shipments. The preliminary results are listed below in the section titled “Preliminary Results of Review.”

¹ Wheatland Tube Company, Borusan Mannesmann Boru Sanayi ve Ticaret A.S., and Borusan Istikbal Ticaret requested the instant administrative review.

² See Initiation of Antidumping and Countervailing Duty Administrative Reviews, 79 FR 36462 (June 27, 2014) (Initiation Notice). The Initiation Notice inadvertently referenced the incorrect order title. This Federal Register notice and the decision memorandum accompanying these preliminary results use the original and correct order title, as reflected in the original 1986 order. See Antidumping Duty Order; Welded Carbon Steel Standard Pipe and Tube Products from Turkey, 51 FR 17784 (May 15, 1986).

³ In prior segments of this proceeding, we treated Borusan Mannesmann Boru Sanayi ve Ticaret A.S. and Borusan Istikbal Ticaret T.A.S. as the same legal entity. See, e.g., Welded Carbon Steel Standard Pipe and Tube Products From Turkey: Final Results of Antidumping Duty Administrative Review; 2012-2013, 79 FR 71087, 71088 (December 1, 2014). We preliminarily determine that there is no evidence on the record for altering such treatment of these two parties, referred to collectively as Borusan. Similarly, in prior segments of this proceeding we treated Toscelik and Tosyali as the same legal entity. See, e.g., id. There is also no record evidence for altering this treatment. Therefore, for these preliminary results, we are treating Toscelik and Tosyali as the same legal entity.

DATES: Effective Date: June 5, 2015.

FOR FURTHER INFORMATION CONTACT: Fred Baker, Deborah Scott, or Robert James at (202) 482-2924, (202) 482-2657, or (202) 482-0649, respectively; AD/CVD Operations, Office VI, Enforcement and Compliance, International Trade Administration, U.S. Department of Commerce, 14th Street and Constitution Avenue NW., Washington, DC 20230.

SUPPLEMENTARY INFORMATION:

Scope of the Order

The merchandise subject to the order is welded pipe and tube. The welded pipe and tube subject to the order is currently classifiable under subheading 7306.30.10.00, 7306.30.50.25, 7306.30.50.32, 7306.30.50.40, 7306.30.50.55, 7306.30.50.85, and 7306.30.50.90 of the Harmonized Tariff Schedule of the United States (HTSUS). The HTSUS subheading is provided for convenience and customs purposes. A full description of the scope of the order is contained in the memorandum from Christian Marsh, Deputy Assistant Secretary for Antidumping and Countervailing Duty Operations, to Paul Piquado, Assistant Secretary for Enforcement and Compliance, “Decision Memorandum for Preliminary Results of Antidumping Duty Administrative Review: Welded Carbon Steel Standard Pipe and Tube Products from Turkey; 2013-2014 Administrative Review” (Preliminary Decision Memorandum), which is hereby adopted by this notice. The written description of the scope of the order is dispositive.

Methodology

The Department has conducted this review in accordance with section 751(a)(1)(B) and (2) of the Tariff Act of 1930, as amended (the Act). Export price is calculated in accordance with section 772 of the Act. Normal value (NV) is calculated in accordance with section 773 of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at http://access.trade.gov and is available to all parties in the Central Records Unit, room 7046 of the main Department of Commerce building. In addition, a complete version of the Preliminary Decision Memorandum can be accessed directly at http://enforcement.trade.gov/frn/index.html. The signed Preliminary Decision Memorandum and the electronic version of the Preliminary Decision Memorandum are identical in content. A list of the topics discussed in the Preliminary Decision Memorandum is attached as the Appendix to this notice.

Preliminary Determination of No Shipments

On July 15, 2014, Erbosan submitted a letter certifying that it had no exports, sales, or entries of subject merchandise to the United States during the POR, and that it did not know or have reason to know that any of its customers would subsequently export or sell subject merchandise exported by Erbosan to the United States. On August 22, 2014, the Department issued a “No Shipment Inquiry” to U.S. Customs and Border Protection (CBP) to confirm that there were no entries of welded pipe and tube from Turkey exported by Erbosan during the POR. In response, CBP communicated to the Department that its data indicated that subject merchandise exported by Erbosan may have entered the United States during the POR. Therefore, we obtained U.S. entry documents for these shipments, and upon analysis conclude that the record does not support finding that Erbosan had knowledge that the destination for these shipments was the United States.⁴ The Department also requested clarification from Erbosan regarding these shipments, and Erbosan again confirmed that during the POR, it did not export subject merchandise to any customer in the United States or to any customer outside the United States knowing the final destination was the United States. Erbosan also certified that it did not sell subject merchandise to any domestic customer which purchased the subject merchandise for export to the United States, nor did it have knowledge that any of its customers would subsequently export or sell Erbosan's subject merchandise to the United States. As previously noted, we have found nothing in the U.S. entry documents or elsewhere on the record that contradicts these claims.

⁴ See Memorandum to the File from Fred Baker, “U.S. Entry Documents—Welded Carbon Steel Standard Pipe and Tube Products from Turkey,” dated January 30, 2015.

Based on Erbosan's certifications and our analysis of the other information on the record referenced above, we preliminarily determine that Erbosan had no shipments during the POR. However, consistent with our practice, the Department finds that it is not appropriate to rescind the review with respect to Erbosan, but rather to complete the review with respect to Erbosan, and to issue appropriate instructions to CBP based on the final results of this review.

Preliminary Results of Review

As a result of this review, we preliminarily determine that the weighted-average dumping margins for the period May 1, 2013 through April 30, 2014 are as follows:

Producer or exporter | Weighted- Average dumping margin (percent)
Borusan Mannesmann Boru Sanayi ve Ticaret A.S ⁵ | 3.16
Toscelik Profil ve Sac Endustrisi A.S ⁶ | 1.77
⁵ Also includes Borusan Istikbal Ticaret T.A.S. See footnote 3.
⁶ Also includes Tosyali Dis Ticaret A.S. See footnote 3.

Disclosure and Public Comment

The Department will disclose to interested parties the calculations performed in connection with these preliminary results within five days of the date of publication of this notice.⁷ Interested parties may submit case briefs no later than 30 days after the date of publication of this notice.⁸ Rebuttal briefs, limited to issues raised in the case briefs, may be filed not later than five days after the due date for filing case briefs.⁹ Parties who submit case briefs or rebuttal briefs in this proceeding are encouraged to submit with each argument: (1) A statement of the issue; (2) a brief summary of the argument; and (3) a table of authorities.¹⁰ Case and rebuttal briefs should be filed using ACCESS.¹¹ In order to be properly filed, ACCESS must successfully receive an electronically-filed document in its entirety by 5 p.m. Eastern Time.

⁷ See 19 CFR 351.224(b).

⁸ See 19 CFR 351.309(c)(1)(ii).

⁹ See 19 CFR 351.309(d).

¹⁰ See 19 CFR 351.309(c)(2) and (d)(2).

¹¹ See 19 CFR 351.303.

Pursuant to 19 CFR 351.310(c), interested parties who wish to request a hearing, or to participate if one is requested, must submit a written request to the Assistant Secretary for Enforcement and Compliance, filed electronically via ACCESS, within 30 days after the date of publication of this notice.¹² Requests should contain: (1) The party's name, address, and telephone number; (2) the number of participants; and (3) a list of issues to be discussed. Issues raised in the hearing will be limited to those raised in the respective case and rebuttal briefs.

¹² See 19 CFR 351.310(c).

Unless otherwise extended, the Department intends to issue the final results of this administrative review, including the results of its analysis of the issues raised in any written briefs, not later than 120 days after the date of publication of this notice, pursuant to section 751(a)(3)(A) of the Act.

Assessment Rates

Upon completion of the administrative review, the Department shall determine, and CBP shall assess, antidumping duties on all appropriate entries in accordance with 19 CFR 351.212(b)(1). We intend to issue instructions to CBP 15 days after the date of publication of the final results of this review.

If Borusan's or Toscelik's weighted-average dumping margins are not zero or de minimis (i.e., less than 0.5 percent) in the final results of this review, we will calculate importer-specific assessment rates on the basis of the ratio of the total amount of dumping calculated for the importer's examined sales and the total entered value of the sales in accordance with 19 CFR 351.212(b)(1). Where either a respondent's weighted-average dumping margin is zero or de minimis, or an importer-specific assessment rate is zero or de minimis, we will instruct CBP to liquidate the appropriate entries without regard to antidumping duties.

With respect to Erbosan, if we continue to find that Erbosan had no shipments of subject merchandise in the final results, we will instruct CBP to liquidate any existing entries of merchandise produced by Erbosan, but exported by other parties, at the rate for the intermediate reseller, if available, or at the all-others rate.¹³

¹³ See, e.g., Magnesium Metal From the Russian Federation: Preliminary Results of Antidumping Duty Administrative Review, 75 FR 26922, 26923 (May 13, 2010), unchanged in Magnesium Metal From the Russian Federation: Final Results of Antidumping Duty Administrative Review, 75 FR 56989 (September 17, 2010).

Cash Deposit Requirements

The following cash deposit requirements will be effective for all shipments of the subject merchandise entered, or withdrawn from warehouse, for consumption on or after the publication date of the final results of this administrative review, as provided by section 751(a)(2)(C) of the Act: (1) The cash deposit rate for Borusan and Toscelik will be equal to the weighted-average dumping margin established in the final results of this review, except if the rate is zero or de minimis within the meaning of 19 CFR 351.106(c)(1), in which case the cash deposit rate will be zero; (2) for other manufacturers and exporters covered in a prior segment of the proceeding, the cash deposit rate will continue to be the company-specific rate published for the most recently completed segment of this proceeding in which that manufacturer or exporter participated; (3) if the exporter is not a firm covered in this review, a prior review, or the original less-than-fair-value (LTFV) investigation, but the manufacturer is, then the cash deposit rate will be the rate established for the most recently completed segment of this proceeding for the manufacturer of subject merchandise; and (4) the cash deposit rate for all other manufacturers or exporters will continue to be 14.74 percent, the all-others rate established in the LTFV investigation.¹⁴ These deposit requirements, when imposed, shall remain in effect until further notice.

¹⁴ See Antidumping Duty Order; Welded Carbon Steel Standard Pipe and Tube Products From Turkey, 51 FR 17784 (May 15, 1986).

Notification to Importers

This notice also serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act.

Dated: May 29, 2015.
Paul Piquado,
Assistant Secretary for Enforcement and Compliance.

Appendix—List of Topics Discussed in the Preliminary Decision Memorandum

1. Summary

2. Background

3. Scope of the Order

4. Preliminary Determination of No Shipments

5. Comparisons to Normal Value

6. Product Comparisons

7. Date of Sale

8. Export Price

9. Normal Value

10. Currency Conversion

11. Recommendation

[FR Doc. 2015-13807 Filed 6-4-15; 8:45 am]

BILLING CODE 3510-DS-P